ENVIRONMENTAL PROTECTION AGENCY

[FRL-9931-45-Region 6]

Clean Water Act Section 303(d): Availability of List Decisions

AGENCY: Environmental Protection Agency (EPA).

ACTION: Notice of availability.

SUMMARY: This notice announces the availability of The Environmental Protection Agency's (EPA) Responsiveness Summary Concerning EPA's March 10, 2015 Public Notice of Proposed Decisions to Add Waters and Pollutants to Louisiana's 2014 Section 303(d) List.

On March 10, 2015 EPA published a notice in the Federal Register at Volume 80, Number 46, page 12628 providing the public the opportunity to review its decision to partially approve and proposal to partially disapprove Louisiana's 2014 Section 303(d) list. Specifically, EPA approved Louisiana's listing of 279 waterbody-pollutant combinations, and associated priority rankings. EPA proposed to disapprove Louisiana's decisions not to list 43 water quality limited segments and associated pollutants constituting 93 waterbody-pollutant combinations. EPA also proposed to add these waterbody-pollutant combinations to the 2014 Section 303(d) list because applicable numeric water quality standards were not attained in these segments for one of the following parameters: Dissolved oxygen (marine criterion); turbidity; and minerals (individually or a combination of sulfates, chlorides, and/or total dissolved solids).

Based on the Responsiveness Summary, EPA finds no new information or persuasive arguments as to why the 43 water quality limited segments should not be added to the 2014 Louisiana Section 303(d) list as proposed. Therefore, EPA is taking Final Action on the addition of 43 water quality limited segments and associated 93 waterbody-pollutant combinations to the final Louisiana 2014 Section 303(d) list. The basis for these decisions is described in EPA's Decision Document for the Louisiana 2014 Section 303(d) list, available at http://www.epa.gov/region6/water/npdes/tmdl/index.htm.

ADDRESSES: Copies of EPA's Responsiveness Summary Concerning EPA's July 21, 2015 Public Notice of Final Decisions to Add Waters and Pollutants to Louisiana's 2014 Section 303(d) list can be obtained at EPA Region 6's Web site at http://www.epa.gov/region6/water/npdes/tmdl/index.htm#303dlists, or by writing or calling Evelyn Rosborough, Environmental Protection Specialist, Water Quality Protection Division, U.S. Environmental Protection Agency Region 6, 1445 Ross Ave., Dallas, TX 75202-2733, telephone (214) 665-7515, facsimile (214) 665-6490, or email: rosborough.evelyn@epa.gov. Underlying documents from the administrative record for these decisions are available for public inspection at the above address. Please contact Evelyn Rosborough to schedule an inspection.

FOR FURTHER INFORMATION CONTACT: Evelyn Rosborough at (214) 665-7515.

SUPPLEMENTARY INFORMATION: Section 303(d) of the Clean Water Act (CWA) requires that each state identify those waters for which existing technology-based pollution controls are not stringent enough to attain or maintain state water quality standards. For those waters, states are required to establish Total Maximum Daily Loads (TMDLs) according to a priority ranking.

EPA's Water Quality Planning and Management regulations include requirements related to the implementation of Section 303(d) of the CWA (40 CFR 130.7). The regulations require states to identify water quality limited waters still requiring TMDLs every two years. The list of waters still needing TMDLs must also include priority rankings and must identify the waters targeted for TMDL development during the next two years (40 CFR 130.7).

Consistent with EPA's regulations, Louisiana submitted to EPA its 2014 listing decisions under Section 303(d) on August 19, 2014. On February 26, 2015, EPA approved Louisiana's 2014 listing of 279 water body-pollutant combinations and associated priority rankings, and proposed to disapprove Louisiana's decisions not to list 43 water quality limited segments and associated pollutants constituting 93 waterbody-pollutant combinations. On July 21, 2015, EPA finalized the action to disapprove Louisiana's 2014 listing decisions not to list 43 water quality limited segments. EPA identified these additional waters for inclusion on the 2014 Section 303(d) List.

Dated: July 21, 2015.
William K. Honker,
Director, Water Quality Protection Division, Region 6.

[FR Doc. 2015-18523 Filed 7-28-15; 8:45 am]

BILLING CODE 6560-50-P